DEPARTMENT OF COMMERCE

Foreign-Trade Zones Board

[Docket 31-2004]

Foreign-Trade Zone 25—Broward County, FL, Request for Export Processing Authority, S.B. Marketing Worldwide, Inc. (Apparel Printing)

An application has been submitted to the Foreign-Trade Zones Board (the Board) by Broward County, Florida, grantee of FTZ 25, pursuant to § 400.32(b)(1)(ii) of the Board's regulations (15 CFR part 400), requesting authority on behalf of S.B. Marketing Worldwide, Inc. (SBMW), to process foreign-origin apparel products for export under FTZ procedures within FTZ 25. It was formally filed on July 30, 2004.

The proposed SBMW activity (14 employees) within Site 1-Building E, Bay 13 would involve silk screen printing of foreign-origin T-shirts (including sleeveless tank-style) for export only. The adult and children's T-shirts, which are subject to quota category 352 and classified under HTSUS 6109.10.0005, would be admitted under privileged foreign status (19 CFR 146.41) in blank (i.e., plain) condition to be screen printed and dried for use as outerwear. The finished printed T-shirts would then be transferred from the zone for exportation, and none of the foreign status T-shirts would be entered for U.S. consumption.

FTZ procedures would exempt SBMW from Customs duty payments on the foreign T-shirts (17% rate of duty) processed for re-export. The application indicates that the savings from FTZ procedures would help improve SBMW's international competitiveness.

Public comment on the application is invited from interested parties. Submissions (original and three copies) shall be addressed to the Board's Executive Secretary at the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-4100W, 1401 Constitution Ave., NW., Washington, DC 20230.

The closing period for their receipt is September 20, 2004. Rebuttal comments in response to material submitted during the foregoing period may be submitted during the subsequent 15-day period (to October 5, 2004).

A copy of the application will be available for public inspection at the Office of the Foreign-Trade Zones Board's Executive Secretary at address No.1 listed above.

Dated: August 2, 2004.
Dennis Puccinelli,
Executive Secretary.

[FR Doc. 04-18044 Filed 8-5-04; 8:45 am]

BILLING CODE 3510-DS-P